DEPARTMENT OF ENERGY

Federal Energy Regulatory Commission

[Project No. 2064-004]

Flambeau Hydro LLC; Notice of Application Ready for Environmental Analysis and Soliciting Comments, Recommendations, Terms and Conditions, and Presecriptions

December 19, 2003.

Take notice that the following hydroelectric application has been filed with the Commission and is available for public inspection:

a. Type of Application: New minor license.

b. Project No.: 2064-004.

c. Date Filed: November 26, 1999.

d. Applicant: Flambeau Hydro LLC.

e. Name of Project: Winter Hydroelectric Project.

f. Location: Partially within the Chequamegon National Forest, on the East Fork of the Chippewa River near the town of Winter, Sawyer County, Wisconsin.

g. Filed Pursuant to: Federal Power Act 16 U.S.C. 791 (a)—825(r).

h. Applicant Contact: Mr. Loyal Gake, Flambeau Hydro LLC, P.O. Box 167, Neshkoro, WI 54960 (920) 293-4628 Ext.12.

i. FERC Contact: Michael Spencer,michael.spencer@ferc.gov, or (202) 502-6093

j. Pursuant to section 4.34(b) of the Commission's Regulations (see Order No. 533 issued May 8, 1991, 56 FR 23108, May 20, 1991), the deadline for filing comments, recommendations, terms and conditions, and prescriptions is 60 days from the issuance date of this notice. Reply comments are due 105 days from the issuance date of this notice.

The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. Status of environmental analysis: This application is ready for environmental analysis at this time.

l. Description of Project: The existing project consists of: (1) A 14-foot-high, 140-foot-long concrete stop log diversion dam (2) a 55 acre reservoir with a normal storage capacity of 300 area-feet, at a normal pool elevation of 1367.7 mean sea level; (3) a 2,100-foot-long power canal; (4) an 18-foot-wide concrete intake structure; (5) two 5.5-foot-diameter 78-foot-long steel penstocks; (6) a powerhouse containing two generating units with a combined capacity of 600 kW, and an average annual generation 2,130 MWh (7) a 700-foot-long tailrace; and appurtenant facilities.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Anyone may obtain an extension of time for these deadlines from the Commission only upon a showing of good cause or extraordinary circumstances in accordance with 18 CFR 385.2008.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Procedures schedule: The Commission staff proposes to issue one Environmental Assessment (EA) rather than issuing a draft and final EA. Staff intends to allow at least 30 days for entities to comment on the EA, and will take into consideration all comments received on the EA before final action is taken on the license application. If any person or organization objects to the staff proposed alternative procedure, they should file comments as stipulated in item k above, briefly explaining the basis for their objection. The application will be processed according to the following schedule, but revisions to the schedule may be made as appropriate:

Issue Notice of availability of EA: April 2004.

Ready for Commission decision on the application: June 2004.

Magalie R. Salas,
Secretary.

[FR Doc. E3-00655 Filed 12-29-03; 8:45 am]

BILLING CODE 6717-01-P